COMMISSION ON CIVIL RIGHTS

Agenda and Notice of Public Meeting of the District of Columbia Advisory Committee; Correction

AGENCY: Commission on Civil Rights.

ACTION: Notice; correction.

SUMMARY: The Commission on Civil Rights published a notice in the Federal Register of September 10, 2013, concerning a meeting of the District of Columbia Advisory Committee. The notice contained an incorrect time.

FOR FURTHER INFORMATION CONTACT: Ivy Davis, (202) 276-7533.

Correction

In the Federal Register of September 10, 2013, in FR Doc. 2013-21967, on page 55240, correct the first paragraph to read:

Notice is hereby given, pursuant to the provisions of the rules and regulations of the U.S. Commission on Civil Rights (Commission), and the Federal Advisory Committee Act (FACA), that a planning meeting of the District of Columbia Advisory Committee to the Commission will convene at 9:30 a.m. (ET) on Tuesday, September 24, 2013, at 1331 Pennsylvania Avenue NW., Suite 1150, Washington, DC 20425. The purpose of the briefing meeting is to hear from government officials, advocates, and other experts on the issue of human trafficking in the District of Columbia. The planning meeting will discuss the next steps for the project and set forward a timeline for completing tasks related to the project.

Dated: September 16, 2013.
David Mussatt,
Acting Chief, Regional Programs Coordination Unit.

[FR Doc. 2013-22809 Filed 9-18-13; 8:45 am]

BILLING CODE 6335-01-P